DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, as amended, 44 U.S.C. Chapter 35), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Data System for Organ Procurement and Transplantation Network (42 CFR Part 121, OMB No. 0915-0184): Extension

The operation of the Organ Procurement and Transplantation Network (OPTN) necessitates certain record keeping and reporting requirements in order to perform the functions related to organ transplantation under contract to HHS. This is a request for an extension of the current record keeping and reporting requirements associated with the OPTN. These data will be used by HRSA in monitoring the contracts for the OPTN and the Scientific Registry of Transplant Recipients (SRTR) and in carrying out other statutory responsibilities. Information is needed to match donor organs with recipients, to monitor compliance of member organizations with OPTN rules and requirements, and to ensure that all qualified entities are accepted for membership in the OPTN.

Estimated Annual Reporting and Record Keeping Burden
Section and activity | Number of respondents | Responses per respondents | Total responses | Hours per response | Total burden hours
121.3(b)(2):
OPTN membership and application requirements for OPOs, hospitals, and histocompatibility laboratories | 30 | 1 | 30 | 40 | 1,200
121.3(b)(4):
Appeal for OPTN membership | 2 | 1 | 2 | 3 | 6
121.6(c) (Reporting):
Submitting criteria for organ acceptance | 900 | 1 | 900 | 0.5 | 450
121.6(c) (Disclosure):
Sending criteria to OPOs | 900 | 1 | 900 | 0.5 | 450
121.7(b)(4):
Reasons for Refusal | 900 | 38 | 34,200 | 0.5 | 17,100
121.7(e):
Transplant to prevent organ wastage | 278 | 1.5 | 417 | 0.5 | 209
121.9(b):
Designated Transplant Program Requirements | 10 | 1 | 10 | 5.0 | 50
121.9(d):
Appeal for designation | 2 | 1 | 2 | 6 | 12
Total | 944 |  | 36,461 |  | 19,477

Send comments to Susan G. Queen, Ph.D., HRSA Reports Clearance Officer, Room 14-45, Parklawn Building, 5600 Fishers Lane, Rockville, MD 20857. Written comments should be received within 60 days of this notice.

Dated: November 24, 2003.
Tina M. Cheatham,
Acting Director, Division of Policy Review and Coordination.

[FR Doc. 03-30030 Filed 12-2-03; 8:45 am]

BILLING CODE 4165-15-P